DEPARTMENT OF TRANSPORTATION

Federal Aviation Administration

Public Notice for Waiver Of Aeronautical Land-Use Assurance; Sidney Municipal Airport, Sidney, OH

AGENCY: Federal Aviation Administration, DOT

ACTION: Notice of intent of waiver with respect to land.

SUMMARY: The Federal Aviation Administration (FAA) is considering a proposal to change a portion of the airport from aeronautical use to non-aeronautical use and to authorize the sale of the airport property. The proposal consists of 1 parcel of land totaling approximately 37.744 acres. The land is currently used for agricultural crop production. No facilities are located within the property boundaries. The land was acquired under FAA Project Number 3-39-0044-01. The aforementioned land is not needed for aeronautical use, as shown on the Airport Layout Plan. There are no impacts to the airport by allowing the airport to dispose of the property. Approval does not constitute a commitment by the FAA to financially assist in the disposal of the subject airport property nor a determination of eligibility for grant-in-aid funding from the FAA. The disposition of proceeds from the disposal of the airport property will be in accordance with FAA's Policy and Procedures Concerning the Use of Airport Revenue, published in the Federal Register on February 16, 1999.

In accordance with section 47107(h) of title 49, United States Code, this notice is required to be published in the Federal Register 30 days before modifying the land-use assurance that requires the property to be used for an aeronautical purpose.

DATES: Comments must be received on or before September 17, 2012.

ADDRESSES: Documents reflecting this FAA action may be reviewed at the Detroit Airports District Office.

FOR FURTHER INFORMATION CONTACT: Mary Jagiello, Program Manager, Detroit Airports District Office, Federal Aviation Administration, 11677 South Wayne Road, Romulus, Michigan 48174. Telephone Number (734) 229-2956 FAX Number (734) 229-2950. Documents reflecting this FAA action may be reviewed at this same location or at Sidney Municipal Airport, Sidney, Ohio.

SUPPLEMENTARY INFORMATION: Following is a legal description of the property situated in the northwest quarter of section one, Orange Township, Town 1, Range 13, Shelby County, B.M.R.S., Ohio. Being bounded and described more fully as follows:

Parcel 212 Description:

Commencing for reference at an iron pin found at the Southwest corner of the Northwest quarter of said section one;

Thence North 5°−32′−22″ East, 184.86 feet along the West line of said quarter section to a ⅝″ x 30″ iron pin with City of Sidney cap set for the place of beginning for this premise;

Thence continuing North 5°−32′−22″ East, 1251.70 feet (along the East line of 40.000 acre and 78.638 acre parcels, as shown in Deed Vol. 358, Pg. 256, and Official Records Vol. 1277, Pg. 19 respectively) to an iron pin found;

Thence South 84°−23′−02″ East, 1600.00 feet (along the south line of a 66.999 acre parcel owned by Sharon Ann Lucas, Mary Jane Durst & Connie Sue Smith, as shown in Deed Vol. 302, Pg. 373 of the Shelby County Records) to a ⅝″ x 30″ iron pin with City of Sidney cap set;

Thence South 5°−32′−22″ West. 1239.95 feet (along the West line of a 30.020 acre parcel owned by Patrick T. & Amy J. Martin, as shown in Official Records Vol. 1306, Pg. 264 of the Shelby County Records) to a ⅝″ x 30″ iron pin with City of Sidney cap set;

Thence North 84°−53′−21″ West, 724.48 feet along a new division line to a ⅝″ x 30″ iron pin with City of Sidney cap set;

Thence North 46°−38′−39″ East, 871.89 feet along a new division line to a ⅝″ x 30″ iron pin with City of Sidney cap set;

Thence North 49°−04′−00″ West, 450.00 feet along a new division line to a ⅝″ x 30″ iron pin with City of Sidney cap set;

Thence South 35°−13′−22″ West, 964.79 feet along a new division line to a ⅝″ x 30″ iron pin with City of Sidney cap set;

Thence North 49°−04′−00″ West, 71.00 feet along a new division line to a ⅝″ x 30″ iron pin with City of Sidney cap set;

Thence South 40°−56′−06″ West, 150.34 feet along a new division line to a ⅝″ x 30″ iron pin with City of Sidney cap set;

Thence North 84°−44′−05″ West, 459.20 feet returning to the place of beginning for this premise;

Containing 37.744 acres more or less, all being subject to any legal easements and highways of record.

Being part of the premises recorded in Deed Vol. 304, Pg. 154.

Bearings are based upon State Plane Coordinates, NAD 83, Geoid 99, Ohio North Zone.

Survey is recorded in Large Plat Vol. 33, Pg. 90.

Randall J. Magoto, Ohio Professional Surveyor number 7768, based upon a field survey completed in April, 2011, prepared the above description

Issued in Romulus, Michigan, on June 25, 2012.
John L. Mayfield, Jr.,
Manager, Detroit Airports District Office, FAA, Great Lakes Region.

[FR Doc. 2012-20142 Filed 8-15-12; 8:45 am]

BILLING CODE 4910-13-P